DEPARTMENT OF COMMERCE

International Trade Administration

[A-570-851]

Certain Preserved Mushrooms from the People's Republic of China: Notice of Partial Rescission of Antidumping Duty Administrative Review

AGENCY: Import Administration, International Trade Administration, Department of Commerce.

ACTION: Notice of partial rescission of antidumping duty administrative review.

EFFECTIVE DATE: August 20, 2002.

FOR FURTHER INFORMATION CONTACT: Brian Smith or Kate Johnson, Import Administration, International Trade Administration, U.S. Department of Commerce, 14th Street and Constitution Avenue, N.W., Washington, D.C. 20230; telephone: (202) 482-1766 or (202) 482-4929, respectively.

SUPPLEMENTARY INFORMATION:

Applicable Statute

Unless otherwise indicated, all citations to the Tariff Act of 1930, as amended (the Act), are references to the provisions effective January 1, 1995, the effective date of the amendments made to the Act by the Uruguay Round Agreements Act. In addition, unless otherwise indicated, all citations to the Department of Commerce's regulations are to 19 CFR Part 351 (2001).

Background

On February 1, 2002, the Department published in the Federal Register (67 FR 4945) a notice of “Opportunity To Request Administrative Review” of the antidumping duty order on certain preserved mushrooms from the People's Republic of China (“PRC”) for the period February 1, 2001, through January 31, 2002. On February 28, 2002, the Coalition of Fair Preserved Mushrooms Trade (the “petitioners”) requested an administrative review of the above referenced antidumping duty order for the following companies: China Processed Food Import & Export Company (“China Processed”); Compania Envasadora del Atlantico (“Compania Envasadora”); Gerber Food (Yunnan) Co., Ltd. (“Gerber”); Green Fresh Foods (Zhangzhou) Co., Ltd. (“Green Fresh”); Raoping Xingyu Foods Co., Ltd. (“Raoping Xingyu”); Shantou Hongda Industrial General Corporation (“Shantou Hongda”) and Shenxian Dongxing Foods Co., Ltd. (“Shenxian Dongxing”). On March 27, 2002, the Department published a notice of initiation of an administrative review of the antidumping duty order with respect to these companies. See Initiation of Antidumping and Countervailing Duty Administrative Reviews and Requests for Revocations in Part, 67 FR 14696.

Partial Recission of Review

On June 11, 2002, the petitioners requested an extension of the deadline to withdraw their requests for review. On June 21, 2002, the Department granted the petitioners' request and extended the deadline until July 9, 2002. On July 9, 2002, the petitioners withdrew their request for an administrative review of Compania Envasadora and China Processed. On July 24, 2002, the petitioners submitted a further letter to the Department seeking to withdraw their request for an administrative review of Raoping Xingyu. On July 30, 2002, respondent Raoping Xingyu submitted a letter requesting that the Department reject the petitioners' request with regard to Raoping Xingyu. On August 2, 2002, the Department informed the respondent Raoping Xingyu of the Department's decision (as set forth below).

Pursuant to section 351.213 (d) of the Department's regulations, the Secretary will rescind an administrative review in whole or in part if a party that requested the review withdraws its request within ninety days of publication of the Federal Register notice that initiated the review. Section 351.213(d)(1) further provides that the Secretary may extend this time limit if the Secretary decides that it is reasonable to do so.

Accordingly, we are rescinding in part this review of the antidumping duty order on certain preserved mushrooms from the People's Republic of China as to Compania Envasadora, China Processed and Raoping Xingyu. This review will continue with respect to Gerber, Green Fresh, Shantou Hongda and Shenxian Dongxing.

This notice is published in accordance with section 751 of the Act and 19 CFR 351.213(d)(4).

Dated: August 12, 2002.
Richard W. Moreland,
Deputy Assistant Secretary for Import Administration.

[FR Doc. 02-21175 Filed 8-19-02; 8:45 am]

BILLING CODE 3510-DS-S